NUCLEAR REGULATORY COMMISSION

Advisory Committee on Reactor Safeguards (ACRS); Meeting of the Subcommittee on Future Plant Designs; Notice of Meeting

The ACRS Subcommittee on Future Plant Designs will hold a meeting on January 14-15, 2009, at 11545 Rockville Pike, Rockville, Maryland, Room T2 B3.

The entire meeting will be open to public attendance.

The agenda for the subject meeting shall be as follows:

January 14, 2009, 8:30 a.m. until 5 p.m.; January 15, 2009, 8:30 a.m. until 5 p.m.

The Subcommittee will review and discuss the Advanced Reactor Research Plan. The Subcommittee will hear presentations by and hold discussions with representatives of the NRC staff. The Subcommittee will gather information, analyze relevant issues and facts, and formulate proposed positions and actions, as appropriate, for deliberation by the full Committee.

Members of the public desiring to provide oral statements and/or written comments should notify the Designated Federal Officer, Maitri Banerjee (telephone 301-415-6973) 5 days prior to the meeting, if possible, so that appropriate arrangements can be made. Electronic recordings will be permitted. Detailed procedures for the conduct of and participation in ACRS meetings were published in the Federal Register on October 6, 2008, (73 FR 58268-58269).

Further information regarding this meeting can be obtained by contacting the Designated Federal Officer between 8 a.m. and 4:45 p.m. (ET). Persons planning to attend this meeting are urged to contact the above named individual at least two working days prior to the meeting to be advised of any potential changes to the agenda.

Dated: December 22, 2008.
Christopher Brown,
Acting Chief, Reactor Safety Branch A, Advisory Committee on Reactor Safeguards.

[FR Doc. E8-30950 Filed 12-29-08; 8:45 am]

BILLING CODE 7590-01-P